DEPARTMENT OF ENERGY

Federal Energy Regulatory Commission

Combined Notice of Filings #1

Take notice that the Commission received the following electric corporate filings:

Docket Numbers: EC22-75-000.

Applicants: Crete Energy Venture, LLC, Lincoln Generating Facility, LLC.

Description: Joint Application for Authorization Under Section 203 of the Federal Power Act of Crete Energy Venture, LLC, et al.

Filed Date: 6/15/22.

Accession Number: 20220615-5195.

Comment Date: 5 p.m. ET 7/6/22.

Docket Numbers: EC22-76-000.

Applicants: Rolling Hills Generating Holdings, LLC, Rolling Hills Generating, L.L.C.

Description: Joint Application for Authorization Under Section 203 of the Federal Power Act of Rolling Hills Generating Holdings, LLC, et al.

Filed Date: 6/15/22.

Accession Number: 20220615-5204.

Comment Date: 5 p.m. ET 7/6/22.

Take notice that the Commission received the following exempt wholesale generator filings:

Docket Numbers: EG22-145-000.

Applicants: Buffalo Ridge Wind, LLC.

Description: Buffalo Ridge Wind, LLC Notice of Self-Certification of Exempt Wholesale Generator Status.

Filed Date: 6/16/22.

Accession Number: 20220616-5128.

Comment Date: 5 p.m. ET 7/7/22.

Take notice that the Commission received the following electric rate filings:

Docket Numbers: ER21-51-000.

Applicants: BP Energy Company.

Description: Refund Report: Refund Report to be effective N/A.

Filed Date: 6/16/22.

Accession Number: 20220616-5090.

Comment Date: 5 p.m. ET 7/7/22.

Docket Numbers: ER22-1668-001.

Applicants: Northern Indiana Public Service Company LLC.

Description: Tariff Amendment: Amendment to NIPSCO-AEP Indiana Dark Fiber Lease to be effective 3/21/2022.

Filed Date: 6/15/22.

Accession Number: 20220615-5158.

Comment Date: 5 p.m. ET 7/6/22.

Docket Numbers: ER22-1860-001.

Applicants: Midcontinent Independent System Operator, Inc., Big Rivers Electric Corporation.

Description: Tariff Amendment: Midcontinent Independent System Operator, Inc. submits tariff filing per 35.17(b): 2022-06-15_Amendment of BREC Attachment A to be effective 6/1/2022.

Filed Date: 6/15/22.

Accession Number: 20220615-5141.

Comment Date: 5 p.m. ET 7/6/22.

Docket Numbers: ER22-2124-000.

Applicants: Mid-Atlantic Interstate Transmission, LLC, PJM Interconnection, L.L.C.

Description: § 205(d) Rate Filing: Mid-Atlantic Interstate Transmission, LLC submits tariff filing per 35.13(a)(2)(iii): MAIT submits one ECSA, SA No. 6150 to be effective 8/16/2022.

Filed Date: 6/16/22.

Accession Number: 20220616-5059.

Comment Date: 5 p.m. ET 7/7/22.

Docket Numbers: ER22-2126-000.

Applicants: American Transmission Systems, Incorporated, PJM Interconnection, L.L.C.

Description: § 205(d) Rate Filing: American Transmission Systems, Incorporated submits tariff filing per 35.13(a)(2)(iii): ATSI submits three ECSAs, SA Nos. 6342, 6344 and 6347 to be effective 8/16/2022.

Filed Date: 6/16/22.

Accession Number: 20220616-5068.

Comment Date: 5 p.m. ET 7/7/22.

Docket Numbers: ER22-2127-000.

Applicants: PJM Interconnection, L.L.C.

Description: § 205(d) Rate Filing: Amendment to ISA/CSA, SA Nos. 5889 and 5931;Queue Nos. AC2-186, AC2-187, AC2-188 to be effective 1/6/2021.

Filed Date: 6/16/22.

Accession Number: 20220616-5078.

Comment Date: 5 p.m. ET 7/7/22.

Docket Numbers: ER22-2128-000.

Applicants: AEP Texas Inc.

Description: § 205(d) Rate Filing: AEPTX-Prairie Switch Wind 1st A&R Generation Interconnection Agreement to be effective 6/1/2022.

Filed Date: 6/16/22.

Accession Number: 20220616-5085.

Comment Date: 5 p.m. ET 7/7/22.

Docket Numbers: ER22-2129-000.

Applicants: Alabama Power Company, Georgia Power Company, Mississippi Power Company.

Description: Tariff Amendment: Alabama Power Company submits tariff filing per 35.15: Wilsonville Solar LGIA Termination Filing to be effective 6/16/2022.

Filed Date: 6/16/22.

Accession Number: 20220616-5091.

Comment Date: 5 p.m. ET 7/7/22.

Docket Numbers: ER22-2130-000.

Applicants: Alabama Power Company, Georgia Power Company, Mississippi Power Company.

Description: Tariff Amendment: Alabama Power Company submits tariff filing per 35.15: Wilsonville Solar (Douglas Solar) LGIA Termination Filing to be effective 6/16/2022.

Filed Date: 6/16/22.

Accession Number: 20220616-5092.

Comment Date: 5 p.m. ET 7/7/22.

Docket Numbers: ER22-2132-000.

Applicants: PJM Interconnection, L.L.C.

Description: § 205(d) Rate Filing: Original UCSA, Service Agreement No. 6507; Queue No. MISO J793 to be effective 10/19/2021.

Filed Date: 6/16/22.

Accession Number: 20220616-5108.

Comment Date: 5 p.m. ET 7/7/22.

Docket Numbers: ER22-2133-000.

Applicants: American Electric Power Service Corporation, Ohio Power Company, PJM Interconnection, L.L.C.

Description: § 205(d) Rate Filing: American Electric Power Service Corporation submits tariff filing per 35.13(a)(2)(iii): AEP submits one Facilities Agreement re: ILDSA, SA No. 1336 to be effective 8/16/2022.

Filed Date: 6/16/22.

Accession Number: 20220616-5115.

Comment Date: 5 p.m. ET 7/7/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2022.
Debbie-Anne A. Reese,
Deputy Secretary.

[FR Doc. 2022-13468 Filed 6-23-22; 8:45 am]

BILLING CODE 6717-01-P